DEPARTMENT OF COMMERCE

National Oceanic and Atmospheric Administration

Notice of Availability of a Draft Management Plan and Draft Environmental Assessment for the Channel Islands National Marine Sanctuary; Announcement of Public Meetings

AGENCY: Office of National Marine Sanctuaries, National Ocean Service, National Oceanic and Atmospheric Administration, Department of Commerce.

ACTION: Notice of availability and public meetings.

SUMMARY: The National Oceanic and Atmospheric Administration (NOAA) has prepared a draft management plan (DMP) as part of the Channel Islands National Marine Sanctuary (CINMS or sanctuary) management plan review. The DMP, which replaces a 2009 sanctuary management plan, addresses current and emerging threats in CINMS and reflects changes in new science and technologies, how people use the sanctuary, and community needs. The DMP supports continued protection of sanctuary resources through enforcement of existing sanctuary regulations, education and outreach strategies that promote ocean stewardship, and community-inclusive involvement. Consistent with the information provided in the 2019 Notice of Intent, NOAA is not proposing modifications to the sanctuary regulations at this time, but may consider regulatory changes in the future. NOAA also prepared a draft environmental assessment (DEA), which evaluates the environmental impacts of implementing the DMP, ongoing field activities, and the existing sanctuary regulations. NOAA is soliciting public comments on the DMP and DEA at this time.

DATES: Comments are due by February 24, 2022. NOAA will host virtual public scoping meetings at the following dates and times:

• Tuesday, January 18, 2022, 6 p.m.-8 p.m. Pacific Time

• Thursday, January 27, 2022, 6 p.m.-8 p.m. Pacific Time

NOAA may end a meeting before the time noted above if all those participating have completed their oral comments.

ADDRESSES: You may submit comments on the DMP and DEA by the following methods:

• Electronic Submission: Federal eRulemaking Portal: Go to https://www.regulations.gov and enter “NOAA-NOS-2019-0110” in the Search box. Click on the “Comment” icon, complete the required fields, and enter or attach your comments.

• Mail: Written comments may also be mailed to NOAA/CINMS, UCSB Ocean Science Education, Building 514/MC 6155, Santa Barbara, California 93106, Attn: Chris Mobley, Superintendent.

• Public Scoping Meetings: Provide oral comments during virtual public scoping meetings, as described under DATES. Webinar registration details and additional information about how to participate in these public scoping meetings is available at https://channelislands.noaa.gov/manage/plan/revision.html.

Instructions: Comments sent by any other method, to any other address or individual, or received after the end of the comment period, may not be considered by NOAA. All comments received are a part of the public record and will generally be posted for public viewing on www.regulations.gov without change. All personally identifiable information (e.g., name, address, etc.), confidential business information, or otherwise sensitive information submitted voluntarily by the sender will be publicly accessible. NOAA will accept anonymous comments (enter “N/A” in the required fields if you wish to remain anonymous).

FOR FURTHER INFORMATION CONTACT: Michael Murray, Deputy Superintendent for Programs, Channel Islands National Marine Sanctuary, 805-893-6418, cinmsmanagementplan@noaa.gov.

SUPPLEMENTARY INFORMATION:

I. Background

Channel Islands National Marine Sanctuary (CINMS or sanctuary) surrounds five of the eight Channel Islands: San Miguel, Santa Rosa, Santa Cruz, Anacapa, and Santa Barbara off the coast of California. The sanctuary encompasses 1,470 square miles (3,807 square kilometers) of ocean extending an average distance of 6 nautical miles (11.1 kilometers) from island shorelines, and at its deepest point, reaches 5,597 feet (1,706 meters). The sanctuary is home to numerous species of marine mammals, seabirds, fishes, invertebrates, and algae in a remarkably productive coastal environment. Within its boundary is a rich array of habitats, from rugged rocky shores and lush kelp forests to deep canyons and seagrass beds. These habitats abound with life, from tiny microscopic plants to enormous blue whales. The islands and surrounding sanctuary waters have been, and remain, sacred to Indigenous Chumash people. In addition, while the offshore location of the sanctuary limits human presence, the area supports a variety of human uses, such as recreation, tourism, commercial fishing, research, and education.

II. Management Plan Review

The purpose of this management plan review is to fulfill the purposes and policies outlined in Section 301(b) of the National Marine Sanctuaries Act (NMSA; 16 U.S.C. 1431(b)) in order to protect and manage the resources of the sanctuary. As required by Section 304(e) of the NMSA (16 U.S.C. 1434(e)), a management plan review enables NOAA to evaluate the substantive progress toward implementing the sanctuary's existing management plan and the goals for the sanctuary and to revise the sanctuary's management plan and regulations as necessary to fulfill the purposes and policies of the NMSA. A revised sanctuary management plan enables NOAA's Office of National Marine Sanctuaries (ONMS) to adjust the allocation of time and resources to focus on new priority issues, partnerships, technologies and opportunities that have emerged since the existing sanctuary management was published. A revised management plan also prioritizes use of collaborative and community-based approaches to pursuing sanctuary goals, supported by a variety of partnerships with government agencies, scientific entities, Tribal communities, non-governmental organizations (NGOs), and sanctuary volunteers and advisory council members.

Proposed updates to the CINMS management plan are based on ONMS evaluation and advisory council input on the current management plan, analysis of comments received during public scoping, and findings from the latest CINMS condition report. While the condition report, using quantitative data gathered through 2016, found overall that sanctuary resources were doing well in comparison to many other ocean areas, it also highlighted several pressures and activities causing impacts, such as vessel traffic, introduction of non-native species, ocean noise, marine debris, harmful algal blooms, and climate-driven changes to ocean conditions. The condition report's ecosystem services assessment also provided an important reminder about the unique and profound value of the sanctuary environment to the Chumash people.

III. Action Plans

The DMP includes ten action plans covering issue- and program-based themes that would guide sanctuary staff over the coming five to ten years. Across these action plans, ONMS also emphasizes four important cross-cutting themes and approaches: Addressing climate change, fostering diversity and inclusion, relying on partnerships and collaborations, and supporting community-based engagement.

1. Climate Change: Sanctuary waters, as well as surrounding coastal areas and communities, are experiencing climate-related stressors (e.g., ocean acidification, thermal stress, and hypoxia) that will increase in frequency and intensity over the coming decades. This action plan outlines strategies to better understand and mitigate the effects of climate change on sanctuary resources through capacity building and collaborative partnerships.

2. Marine Debris: This action plan prioritizes the assessment of marine debris within CINMS and development of a better understanding of how marine debris affects sanctuary resources. Strategies include sustaining and expanding island shoreline cleanup efforts, pursuing collaborative efforts with the local fishing community, and implementing education and outreach initiatives with partners.

3. Vessel Traffic: A wide array of public and private vessels carry visitors and cargo while transiting through the sanctuary year-round. This action plan outlines strategies to facilitate vessel activity while protecting sanctuary resources. Some strategies include engaging boaters and the shipping industry, tracking and monitoring vessel traffic, and enacting policies to foster safe navigation and protect sanctuary resources in coordination with other agencies and partners.

4. Zone Management: This action plan focuses on implementing effective management and enforcement strategies of existing protective zones established within the sanctuary, including but not limited to the Channel Islands network of marine reserves and conservation areas designated by NOAA and the State of California.

5. Introduced Species: Introduced species are an increasingly common global threat, and the rate of invasion of introduced species continues to accelerate. The strategies in this action plan outline efforts to reduce the introduction, spread, and establishment of introduced species, and to track, study and, where possible, control populations of introduced species already introduced or established in the sanctuary.

6. Education and Outreach: This action plan seeks to increase appreciation and stewardship of sanctuary resources by building greater public understanding, engagement, and awareness throughout diverse coastal communities adjacent to the sanctuary. This action plan also focuses on support for sanctuary recreational activities and tourism.

7. Research and Monitoring: To expand our understanding of the sanctuary ecosystems, this action plan outlines five strategies for research and monitoring that are responsive to existing resource protection and management concerns, yet are also forward-looking to support ecosystem-based management decision making, resource protection initiatives, and education and outreach programs.

8. Resource Protection: This action plan identifies five strategies to reduce human impacts to marine wildlife and other sanctuary resources. Through collaborative management with local stakeholders and in partnership and consultation with relevant local, State and Federal government agencies, this action plan seeks to protect the biological, historical and cultural resources in the sanctuary from known, emerging, and future unknown threats.

9. Cultural Resources and Maritime Heritage: To identify, protect, and raise awareness of the maritime cultural, historical, and archeological resources within the sanctuary, this action plan proposes to improve the sanctuary's collaborative partnership with members of the Chumash community, as well as inventory and monitor historic shipwreck and aircraft wreck sites.

10. Operations and Administration: This action plan addresses the necessary operational and administrative activities required for implementing an effective program, including staffing, infrastructure needs, and operational improvements.

IV. National Environmental Policy Act (NEPA) Compliance

As required under the National Environmental Policy Act (NEPA; 42 U.S.C. 4321 et seq.), NOAA has prepared a DEA to evaluate the potential impacts on the human environment of implementing NOAA's proposed action. The proposed action is to update NOAA's management activities conducted within CINMS that relate to research, monitoring, education, outreach, community engagement, and resource protection. The proposed management activities include revising the sanctuary management plan and implementing routine field activities and existing sanctuary regulations. No significant impacts to resources and the human environment are expected to result from this proposed action. Accordingly, under NEPA, an Environmental Assessment is the appropriate document to analyze the potential impacts of this action. Following the close of the public comment period and the satisfaction of consultation requirements under any applicable natural and cultural resource statutes, NOAA will finalize its NEPA analysis and prepare a final NEPA document and decision document.

NOAA is seeking public comment on the DMP and DEA, which are available at https://channelislands.noaa.gov/manage/plan/revision.html or may be obtained by contacting the individual listed under the heading FOR FURTHER INFORMATION CONTACT.

Authority: 16 U.S.C. 1431 et seq.

John Armor,
Director, Office of National Marine Sanctuaries, National Ocean Service, National Oceanic and Atmospheric Administration.

[FR Doc. 2021-27315 Filed 12-16-21; 8:45 am]

BILLING CODE 3510-NK-P